NUCLEAR REGULATORY COMMISSION

[Docket No. 52-008]

Dominion Nuclear North Anna, LLC; Notice of Availability of the Draft Environmental Impact Statement for an Early Site Permit (ESP) at the North Anna ESP Site and Associated Public Meeting

Notice is hereby given that the U.S. Nuclear Regulatory Commission (NRC, the Commission) has published NUREG-1811, “Draft Environmental Impact Statement for an Early Site Permit (ESP) at the North Anna ESP Site,” (DEIS). The site is located near the Town of Mineral in Louisa County, Virginia, on the southern shore of Lake Anna. The application for the ESP was submitted by letter dated September 25, 2003, pursuant to 10 CFR Part 52. The application included a site redress plan in accordance with 10 CFR 52.17(c) and 52.25. If the site redress plan is incorporated in an approved ESP, then the applicant may carry out certain site preparation work and preliminary construction activities. A notice of receipt and availability of the application, which included the environmental report (ER), was published in the Federal Register on October 16, 2003 (68 FR 59642). A notice of acceptance for docketing of the application for the ESP was published in the Federal Register on October 29, 2003, (68 FR 61705). A notice of intent to prepare an environmental impact statement and to conduct the scoping process was published in the Federal Register on November 24, 2003, (68 FR 65961).

The purpose of this notice is to inform the public that NUREG-1811, “Draft Environmental Impact Statement for an Early Site Permit (ESP) at the North Anna ESP Site,” is available for public inspection in the NRC Public Document Room (PDR) located at One White Flint North, 11555 Rockville Pike (first floor), Rockville, Maryland, 20852, or from the Publicly Available Records (PARS) component of NRC's Agencywide Documents Access and Management System (ADAMS), and will also be placed directly on the NRC Web site at http://www.nrc.gov. ADAMS is accessible from the NRC Web site at http://www.nrc.gov/reading-rm/adams.html (the Public Electronic Reading Room). (Note: Public access to ADAMS has been temporarily suspended so that security reviews of publicly available documents may be performed and potentially sensitive information removed. Please check the NRC Web site for updates on the resumption of ADAMS access.) Persons who do not have access to ADAMS, or who encounter problems in accessing the documents located in ADAMS, should contact the PDR reference staff at 1-800-397-4209, 301-415-4737, or by e-mail to pdr@nrc.gov. In addition, the Louisa County Library, located at 881 Davis Highway, Mineral, Virginia, has agreed to make the DEIS available for public inspection.

The NRC staff will hold a public meeting to present an overview of the DEIS and to accept public comments on the document. The public meeting will be held in the Forum at the Louisa County Middle School, 1009 Davis Highway, Mineral, Virginia, on Wednesday, January 19, 2005. The meeting will convene at 7 p.m. and will continue until 10 p.m., as necessary. The meeting will be transcribed and will include: (1) A presentation of the contents of the DEIS, and (2) the opportunity for interested government agencies, organizations, and individuals to provide comments on the draft report. Additionally, the NRC staff will host informal discussions one hour before the start of the meeting outside the Forum in the Louisa County Middle School. No formal comments on the DEIS will be accepted during the informal discussions. To be considered, comments must be provided either at the transcribed public meeting or in writing. Persons may register to attend or present oral comments at the meeting by contacting Ms. Alicia Williamson, by telephone at 1-800-368-5642, extension 1878, or by Internet to the NRC at NorthAnna_ESP@nrc.gov no later than January 14, 2005. Members of the public may also register to speak at the meeting within 15 minutes of the start of the meeting. Individual oral comments may be limited by the time available, depending on the number of persons who register. Members of the public who have not registered may also have an opportunity to speak, if time permits. Ms. Williamson will need to be contacted no later than January 14, 2005, if special equipment or accommodations are needed to attend or present information at the public meeting, so that the NRC staff can determine whether the request can be accommodated.

Members of the public may send written comments on the DEIS for the North Anna ESP to the Chief, Rules and Directives Branch, Division of Administrative Services, Office of Administration, Mailstop T-6D59, U.S. Nuclear Regulatory Commission, Washington DC 20555-0001, and should cite the publication date and page number of this Federal Register Notice. Comments may also be delivered to Room T-6D59, Two White Flint North, 11545 Rockville Pike, Rockville, Maryland, from 7:30 a.m. to 4:15 p.m. during Federal workdays. To be considered written comments should be postmarked by March 1, 2005. Electronic comments may be sent by the Internet to the NRC at NorthAnna_ESP@nrc.gov. Electronic submissions should be sent no later than March 1, 2005. Comments will be available electronically and accessible through the NRC's PERR link at http://www.nrc.gov/reading-rm/adams.html.

FOR FURTHER INFORMATION CONTACT: Alicia Williamson, License Renewal and Environmental Impacts Program, Division of Regulatory Improvement Programs, U.S. Nuclear Regulatory Commission, Washington, DC 20555-0001. Ms. Williamson may be contacted at the aforementioned telephone number or e-mail address.

Dated at Rockville, Maryland, this 2nd day of December, 2004.
For the Nuclear Regulatory Commission.
Pao-Tsin Kuo,
Program Director, License Renewal and Environmental Impacts Program, Division of Regulatory Improvement Programs, Office of Nuclear Reactor Regulation.

[FR Doc. 04-27107 Filed 12-9-04; 8:45 am]

BILLING CODE 7590-01-P